DEPARTMENT OF TRANSPORTATION

Federal Aviation Administration

14 CFR Part 39

[Docket No. FAA-2009-0113; Directorate Identifier 2008-NE-25-AD; Amendment 39-16602; AD 2011-04-02]

RIN 2120-AA64

Airworthiness Directives; Hamilton Sundstrand Propellers Model 247F Propellers

AGENCY: Federal Aviation Administration (FAA), DOT.

ACTION: Final rule.

SUMMARY: We are adopting a new airworthiness directive (AD) for the products listed above. This AD requires removing affected propeller blades from service. This AD was prompted by reports of blades with corrosion pits in the tulip area of the blades. We are issuing this AD to prevent cracks from developing in the tulip area of the blade, which could result in separation of the blade and possible loss of airplane control.

DATES: This AD is effective March 16, 2011.

ADDRESSES:

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Michael Schwetz, Aerospace Engineer, Boston Aircraft Certification Office, FAA, Engine and Propeller Directorate, 12 New England Executive Park, Burlington, MA 01803; telephone (781) 238-7761; fax (781) 238-7170; e-mail: michael.schwetz@faa.gov.

SUPPLEMENTARY INFORMATION:

Discussion

We issued a supplemental notice of proposed rulemaking (SNPRM) to amend 14 CFR part 39 to include an AD that would apply to the specified products. That SNPRM published in the Federal Register on October 8, 2010 (75 FR 62333). That SNPRM proposed to require removing affected propeller blades from service.

Comments

We gave the public the opportunity to participate in developing this AD. We received no comments on the SNPRM or on the determination of the cost to the public.

Conclusion

We reviewed the relevant data and determined that air safety and the public interest require adopting the AD as proposed except for minor changes to the compliance date for certain serial number (S/N) propeller blades. The SNPRM proposed to require removing propeller blades part number (P/N) 817370-1, S/Ns FR2449 to FR2958 inclusive, FR20010710 to FR20010722 inclusive, and FR20010723RT to FR20020127RT inclusive, before December 31, 2010. We determined that those S/N propeller blades should be removed within the same compliance time as propeller blades P/N 817370-1, S/Ns FR2018, FR2103, FR2108, FR2109, FR2111, FR2123, FR2183, FR2187, FR2262, FR2276 through FR2279 inclusive, and FR2398. We have determined that these minor changes:

• Are consistent with the intent that was proposed in the SNPRM for correcting the unsafe condition; and

• Do not add any additional burden upon the public than was already proposed in the SNPRM.

Costs of Compliance

We estimate that this AD will affect 10 propellers installed on airplanes of U.S. registry. We also estimate that it will take about 16 work-hours per propeller to perform the required actions, and that the average labor rate is $85 per work-hour. Required parts will cost about $50 per propeller. Based on these figures, we estimate the total cost of this AD to U.S. operators to be $14,100.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-04-02 Hamilton Sundstrand Corporation: Amendment 39-16602; Docket No. FAA-2009-0113; Directorate Identifier 2008-NE-25-AD.

Effective Date

(a) This AD is effective March 16, 2011.

Affected ADs

(b) None.

Applicability

(c) This AD applies to Hamilton Sundstrand model 247F series propellers with blades part number (P/N) 817370-1, serial numbers (S/Ns) FR2018, FR2103, FR2108, FR2109, FR2111, FR2123, FR2183, FR2187, FR2262, FR2276 through FR2279 inclusive, FR 2398, FR2449 to FR2958 inclusive, FR20010710 to FR20010722 inclusive, and FR20010723RT to FR20020127RT inclusive, installed. These propellers are installed on, but not limited to, ATR-GIE Avions de Transport Regional ATR72-210 and ATR72-210E airplanes.

Unsafe Condition

(d) This AD results from reports of blades with corrosion pits in the tulip area of the blades. We are issuing this AD to prevent cracks from developing in the tulip area of the blade, which could result in separation of the blade and possible loss of airplane control.

Compliance

(e) You are responsible for having the actions required by this AD performed within the compliance times specified unless the actions have already been done.

Removing Blades P/N 817370-1

(f) Remove from service, blades P/N 817370-1, S/Ns FR2018, FR2103, FR2108, FR2109, FR2111, FR2123, FR2183, FR2187, FR2262, FR2276 through FR2279, FR2398, FR2449 to FR2958 inclusive, FR20010710 to FR20010722 inclusive, and FR20010723RT to FR20020127RT inclusive, within 30 days after the effective date of this AD.

Alternative Methods of Compliance

(g) The Manager, Boston Aircraft Certification Office, has the authority to approve alternative methods of compliance for this AD if requested using the procedures found in 14 CFR 39.19.

Related Information

(h) For more information about this AD, contact Michael Schwetz, Aerospace Engineer, Boston Aircraft Certification Office, FAA, Engine and Propeller Directorate, 12 New England Executive Park, Burlington, MA 01803; telephone (781) 238-7761; fax (781) 238-7170; e-mail: michael.schwetz@faa.gov.

Issued in Burlington, Massachusetts, on January 31, 2011.
Peter A. White,
Acting Manager, Engine & Propeller Directorate, Aircraft Certification Service.

[FR Doc. 2011-2758 Filed 2-8-11; 8:45 am]

BILLING CODE 4910-13-P